SECURITIES AND EXCHANGE COMMISSION

[Release No. 34-42598; File No. SR-EMCC-99-11]

Self-Regulatory Organizations; Emerging Markets Clearing Corporation; Notice of Filing and Immediate Effectiveness of Proposed Rule Change Relating to Revisions in Fee Schedule

March 30, 2000.

Pursuant to Section 19(b)(1) of the Securities Exchange Act of 1934 (“Act”),¹notice is hereby given that on November 22, 1999, the Emerging Markets Clearing Corporation (“EMCC”) filed with the Securities and Exchange Commission (“Commission”) the proposed rule change as described in Items I, II, and III below, which items have been prepared primarily by EMCC. The Commission is publishing this notice to solicit comments on the proposed rule change from interested parties.

¹ 15 U.S.C. 78s(b)(1).

I. Self-Regulatory Organization's Statement of the Terms of Substance of the Proposed Rule Change

The proposed rule change consists of changes to EMCC's fee schedule.

II. Self-Regulatory Organization's Statement of the Purpose of, and Statutory Basis for, the Proposed Rule Change

In its filing with the Commission, EMCC included statements concerning the purpose of and basis for the proposed rule change and discussed any comments it received on the proposed rule change. The text of these statements may be examined at the places specified in Item IV below. EMCC has prepared summaries, set forth in sections (A), (B), and (C) below, of the most significant aspects of these statements.²

² The Commission has modified the text of the summaries prepared by EMCC.

(A) Self-Regulatory Organization's Statement of the Purpose of, and Statutory Basis for, the Proposed Rule Change

EMCC has determined to charge its trade input fee so that inter-dealer broker members pay $1.50 per compared bond side and dealer members pay $2.00 per compared bond side.

The proposed rule change is consistent with the requirements of Section 17A(b)(3)(D) of the Act ³and the rules and regulations thereunder applicable to EMCC because it provides for the equitable allocation of dues, fees, and other charges among EMCC's participants.

³ 15 U.S.C. 78q-1.

(B) Self-Regulatory Organization's Statement on Burden on Competition

EMCC does not believe that the proposed rule change will have any impact, or impose any burden, on competition.

(C) Self-Regulatory Organization's Statement on Comments on the Proposed Rule Change Received From Members, Participants or Others

One comment was received by EMCC.⁴ The commenter stated its belief that EMCC's additional fee makes it cost prohibitive to be a member of EMCC.⁵

⁴ Letter from Vincent G. Rayano, Vice President, Tullett and Tokyo Securities, Inc., to Karen Saperstein, General Counsel and Secretary, EMCC (November 23, 1999).

⁵ In its reply letter, EMCC responded to the commenter by stating that interdealer broker members, such as the commenter, will pay a lower fee under the revised fee schedule than it previously was paying. Letter from Keith C. Kanaga, Managing Director, EMCC, to Vincent G. Rayano, Vice President, Tullet and Tokyo Securities, Inc. (December 7, 1999).

III. Date of Effectiveness of the Proposed Rule Change and Timing for Commission Action

The foregoing rule change has become effective pursuant to Section 19(b)(3)(A)(ii) ⁶ of the Act and Rule 19b-4(f)(2) ⁷ promulgated thereunder because the proposal establishes or changes a due, fee, or charge imposed by EMCC. At any time within sixty days of the filing of such proposed rule change, the Commission may summarily abrogate such rule change if it appears to the Commission that such action is necessary or appropriate in the public interest, for the protection of investors, or otherwise in furtherance of the purposes of the Act.

⁶ 15 U.S.C. 78s(b)(3)(A)(ii).

⁷ 17 CFR 240.19b-4(f)(2).

IV. Solicitation of Comments

Interested persons are invited to submit written data, views, and arguments concerning the foregoing, including whether the proposed rule change is consistent with the Act. Persons making written submissions should file six copies thereof with the Secretary, Securities and Exchange Commission, 450 Fifth Street, NW., Washington, DC 20549-0609. Copies of the submission, all subsequent amendments, all written statements with respect to the proposed rule change that are filed with the Commission, and all written communications relating to the proposed rule change between the Commission and any person, other than those that may be withheld from the public in accordance with the provisions of 5 U.S.C. 552, will be available for inspection and copying in the Commission's Public Reference Section, 450 Fifth Street, NW., Washington, DC 20549. Copies of such filing also will be available for inspection and copying at the principal office of EMCC. All submissions should refer to File No. SR-EMCC-99-11 and should be submitted by April 28, 2000.

⁸ 17 CFR 200.30-3(a)(12).

For the Commission by the Division of Market Regulation, pursuant to delegated authority.⁸
Margaret H. McFarland,
Deputy Secretary.

[FR Doc. 00-8491 Filed 4-6-00; 8:45 am]

BILLING CODE 8010-01-M